DEPARTMENT OF TRANSPORTATION

Federal Highway Administration

Environmental Impact Statement: Los Angeles and San Bernardino Counties, CA; Notice of Intent

AGENCY: Federal Highway Administration (FHWA), DOT.

ACTION: Notice of Withdrawal/Revised Notice of Intent (NOI).

SUMMARY: The FHWA, on behalf of the California Department of Transportation (Caltrans), is issuing this notice to advise the public that the Notice of Intent to prepare an Environmental Impact Statement (EIS) for the proposed New State Route 138 project in Los Angeles County, California (Federal Register Vol. 74, No. 16) and the Notice of Intent to prepare an Environmental Impact Statement (EIS) for the proposed High Desert Corridor project, State Route 18, in San Bernardino County, California (Federal Register Vol. 72, No. 197) are being withdrawn. In addition, this notice is being issued to advise the public that a draft EIS will be prepared for a proposed expanded High Desert Corridor—New State Route 138 project in Los Angeles and San Bernardino Counties, California.

DATES: Public scoping meetings will be held in:

(1) Palmdale, CA on September 27, 2010, 6 p.m. to 8 p.m.

(2) Lancaster, CA on September 28, 2010, 6 p.m. to 8 p.m.

(3) Apple Valley, CA on September 29, 2010, 6 p.m. to 8 p.m.

(4) Victorville, CA on September 30, 2010, 6 p.m. to 8 p.m.

ADDRESSES:

(1) Palmdale—Larry Chimbole Cultural Center, 38350 North Sierra Highway, Palmdale, CA 93550.

(2) Lancaster—Lancaster City Hall, Emergency Operations Center, 44933 Fern Avenue, Lancaster, CA 93534.

(3) Apple Valley—Town of Apple Valley Development Services Building Conference Center, 14955 Dale Evans Parkway, Apple Valley, CA 92307.

(4) Victorville—City of Victorville Conference Room D, 14343 Civic Drive, Victorville, CA 92393.

FOR FURTHER INFORMATION CONTACT: Ronald Kosinski, Deputy District Director, California Department of Transportation District 7 Division of Environmental Planning, 100 South Main Street, Mail Stop 16A, Los Angeles, CA 90012.

SUPPLEMENTARY INFORMATION: Effective July 1, 2007, the FHWA assigned, and Caltrans assumed, environmental responsibilities for these projects pursuant to 23 U.S.C. 327. Caltrans, as the delegated National Environmental Policy Act (NEPA) lead agency, initiated studies on the proposed New State Route 138 and High Desert Corridor, State Route 18 projects. NOIs were published in the Federal Register on January 27, 2009 (Vol. 74, No. 16) and October 12, 2007 (Vol. 72, No. 197). During the course of conducting studies and coordinating with regulatory and resource agencies for the proposed projects, it was determined that the projects should be combined into one larger High Desert Corridor—New State Route 138 project. A Draft Environmental Impact Statement will be prepared for a proposal to construct a new freeway/expressway, and possibly a toll way, between SR-14 in Los Angeles County and SR-18 in San Bernardino County. The proposed route would run primarily in an east-west direction and extend for approximately 63 miles; it would roughly follow the alignment of the Avenue P-8 corridor near SR-14 in Los Angeles County and Air Expressway near I-15 in San Bernardino County. East of I-15, the proposed route would turn south until it terminates at SR-18. The development of this corridor is considered necessary to provide for the existing and projected traffic demand attributed to large-scale growth and increasing population in the Antelope, Victor and Apple Valley areas of Los Angeles and San Bernardino Counties. This growth has resulted in inadequate capacity and accessibility along the existing east-west trending roadways as well as an increase in demand for goods movement corridors and access to regional airports.

Alternatives under consideration are: (1)—No-Build; (2)—Transportation System Management/Transportation Demand Management (TSM/TDM). This includes various operational investments, policies, and easily implemented, low capital cost improvements aimed at improving goods movement, passenger auto and transit travel, and reducing the environmental impacts of transportation for cities and operations in the High Desert Corridor study area; (3)—Freeway/Expressway. This would consist of a route with a controlled-access freeway in some areas and an expressway in others, depending on what is warranted by traffic demand. Interchange locations will be determined based upon traffic projections. Three variations along the main alignment of this alternative will be considered. In Variation A, the freeway/expressway would run slightly south of the main alignment, approximately between 15th St. East and Little Rock Wash near Palmdale. In Variation B, the freeway/expressway would run slightly south of the main alignment between Oasis Rd. and Caughlin Rd. East of the county line. In Variation C, the freeway/expressway would swing south of the main alignment to tie into SR-18 near Rimrock Rd.; (4)—Freeway/Toll Way. This would consist of engineering geometrics similar to Alternative 3 with alterations made in coordination with a Public Private Partnership (P3) analysis. Variations A, B and C would also be considered; (5)—Avenue P-8 Corridor, SR-138 and SR-18 Improvements. This would consist of engineering geometrics similar to Alternative 3 between SR-14 and approximately 125th St. East. From 125th St. East, the route would curve south until it joins the existing SR-138. The existing SR-138 and SR-18 would be widened between approximately 146th St. East and I-15. One of the segments east of I-15, as described in Alternative 3, would also be built as part of this alternative; (6)—Freeway/Expressway with right-of-way for a potential High Speed Rail facility. This would consist of engineering geometrics similar to Alternative 3 with the consideration of additional right-of-way for a High Speed Rail (HSR) facility. If an HSR facility is proven to be viable, its engineering and environmental analysis would be funded by others at some later time, and; (7)—Freeway/Toll Way with right-of-way for a potential High Speed Rail facility. This would consist of engineering geometrics similar to Alternative 4 with the consideration of additional right-of-way for a High Speed Rail (HSR) facility. This alternative would include a P3 analysis. If a HSR facility is proven to be viable, its engineering and environmental analysis would be funded by others at some later time.

It is anticipated that the proposed project may require the following federal approvals and permits: A Biological Opinion from the United States Fish and Wildlife Service, approval of a PM10 and PM2.5 Hot Spot Analysis by the Conformity Working Group for transportation conformity determination under the Clean Air Act, Section 401, 402 and 404 permits under the Clean Water Act, and a Farmland Conversion Impact Rating under the Farmland Protection Policy Act.

Letters describing the proposed action and soliciting comments will be sent to appropriate Federal, State and local agencies, Participating Agencies, Tribal governments, and to private organizations and citizens who have previously expressed or are known to have an interest in this proposal. NEPA requires the lead agency to conduct an early and open process for determining the scope of issues to be addressed and for identifying the significant issues related to a proposed action. In compliance with NEPA, formal scoping meetings will be held at the dates, times and locations as described above. Public notice will be given of the times and place of each meeting. To ensure that the full range of issues related to this proposed action are addressed and all significant issues identified, comments and suggestions are invited from all interested parties. Comments or questions concerning this proposed action and the draft EIS should be directed to Caltrans at the address provided above.

(Catalog of Federal Domestic Assistance Program Number 20.205, Highway Planning and Construction. The regulations implementing Executive Order 12372 regarding intergovernmental consultation on Federal programs and activities apply to this program.)

Issued on: September 20, 2010.
Cindy Vigue,
Director, State Programs, Federal Highway Administration, Sacramento, California.

[FR Doc. 2010-23920 Filed 9-23-10; 8:45 am]

BILLING CODE 4910-22-P